DEPARTMENT OF TRANSPORTATION

Office of the Secretary

49 CFR Part 1

[Docket No. OST-1999-6189]

RIN 9991-AA31

Organization and Delegation of Powers and Duties; Delegations to the Maritime Administrator

AGENCY: Office of the Secretary, DOT.

ACTION: Final rule.

SUMMARY: The Secretary of Transportation (Secretary) is delegating to the Administrator of the Maritime Administration his authority to enforce the prohibition of shipment of Government-impelled cargoes on vessels if: (1) The vessel has been detained and determined to be substandard by the Secretary for violation of an international safety convention to which the United States is a party; or (2) the operator of the vessel has on more than one occasion had a violation of an international safety convention to which the United States is a party. The authorities relating to this matter are vested in the Secretary of Transportation by 46 U.S.C. 2302(e)(2001), added by section 408(a) of Public Law 105-383, approved November 13, 1998 (112 Stat. 3411, 3430).

EFFECTIVE DATE: December 5, 2002.

FOR FURTHER INFORMATION CONTACT: Richard Weaver, Director, Office of Management and Information Services, Maritime Administration, MAR-310, Room 7301, 400 Seventh Street, SW., Washington, DC 20590, Phone: (202) 366-2811.

SUPPLEMENTARY INFORMATION: The Secretary is delegating to the Maritime Administrator his authority to enforce the prohibition of shipment of Government-impelled cargoes on a vessel if: (1) The vessel has been detained and determined to be substandard by the Secretary for violation of an international safety convention to which the United States is a party, and the Secretary has published notice of that detention and determination in an electronic form, including the name of the owner of the vessel; or (2) the operator of the vessel has on more than one occasion had a violation of an international safety convention to which the United States is a party, and the Secretary has published notice of that detention and determination in an electronic form, including the name of the owner of the vessel. The prohibition expires for a vessel on the earlier of (1) one year after the date of the publication in electronic form on which the prohibition is based; or (2) any date on which the owner or operator of the vessel prevails in an appeal of the violation of the relevant international convention on which the determination is based. The term “Government-impelled cargo” means cargo for which a Federal agency contracts directly for shipping by water or for which (or the freight of which) a Federal agency provides financing, including financing by grant, loan, or loan guarantee, resulting in shipment of the cargo by water. The authorities relating to this matter are vested in the Secretary of Transportation by 46 U.S.C. 2302(e)(2001), added by section 408(a) of Public Law 105-383, approved November 13, 1998 (112 Stat. 3411, 3430).

This amendment adds 49 CFR 1.66(ee) to reflect the Secretary's delegation of his authority to enforce the prohibition of shipment of Government-impelled cargoes on certain vessels to the Maritime Administrator. Since this amendment relates to departmental organization, procedure and practice, notice and comment are unnecessary under 5 U.S.C. 553(b). Further, since the amendment expedites the Maritime Administration's ability to meet the statutory intent of the applicable laws and regulations covered by this delegation, the Secretary finds good cause under 5 U.S.C. 553(d)(3) for the final rule to be effective on the date of publication in the Federal Register.

Regulatory Evaluation

Regulatory Assessment

This rulemaking is a non-significant regulatory action under section 3(f) of Executive Order 12866 and has not been reviewed by the Office of Management and Budget under that Order. This rule is also not significant under the regulatory policies and procedures of the Department of Transportation, 44 FR 11034.

This rule does not impose unfunded mandates or requirements that will have any impact on the quality of the human environment.

Collection of Information

This rule calls for no new collection of information under the Paperwork Reduction Act of 1995 (44 U.S.C. 3501-3520).

Federalism Assessment

This proposed rule has been reviewed in accordance with the principles and criteria contained in Executive Order 13132 dated August 4, 1999, and it is determined that this action does not have a substantial direct effect on the States, or the relationship between the national government and the States, or on the distribution of power and responsibilities among the various levels of government. This rule will not limit the policymaking discretion of the States nor preempt any State law or regulation.

List of Subjects in 49 CFR Part 1

Authority delegations (government agencies), Organization and functions (government agencies).

In consideration of the foregoing, part 1 of title 49, Code of Federal Regulations, is amended, effective upon publication, to read as follows:

PART 1—[AMENDED]

1. The authority citation for part 1 continues to read as follows:

Authority: 49 U.S.C. 322; Public Law 101-552, 28 U.S.C. 2672; 31 U.S.C. 3711(a)(2).

2. In section 1.66, add new paragraph (ee) to read as follows:

§ 1.66 Delegations to Maritime Administrator.

* * * * *

(ee) Exercise the authority vested in the Secretary of Transportation by section 408(a) of Public Law 105-383 approved November 13, 1998, (112 Stat. 3411 and 3430), 46 U.S.C. 2302(e), relating to the enforcement of the prohibition of shipment of Government-impelled cargoes on vessels if (1) the vessel has been detained and determined to be substandard by the Secretary of Transportation for violation of an international safety convention to which the United States is a party; or (2) the operator of the vessel has on more than one occasion had a violation of an international safety convention to which the United States is a party. The term “Government-impelled cargo” means cargo for which a Federal agency contracts directly for shipping by water or for which (or the freight of which) a Federal agency provides financing, including financing by grant, loan, or loan guarantee, resulting in shipment of the cargo by water.

* * * * *

Issued on November 26, 2002.
Norman Y. Mineta,
Secretary of Transportation.

[FR Doc. 02-30852 Filed 12-4-02; 8:45 am]

BILLING CODE 4910-62-P